DEPARTMENT OF HOMELAND SECURITY

Coast Guard

33 CFR Part 165

[Docket Number USCG-2025-0389]

RIN 1625-AA00

Regulated Navigation Area and Safety Zone; Hampton River, Hampton, NH

AGENCY: Coast Guard, DHS.

ACTION: Temporary interim rule and request for comments.

SUMMARY: The Coast Guard is establishing a temporary regulated navigation area and a safety zone on the Hampton River at the inlet to Hampton Harbor, Hampton, NH, in response to hazardous conditions created by construction activities for the Neil R. Underwood Seabrook-Hampton Harbor Bridge replacement project. The RNA will establish a speed restriction and a traffic pattern. The safety zone, when enforced, will prohibit all vessel traffic from transiting through or operating within 50 yards of the bridge(s) center span navigational channel. This rule is necessary to provide for the safety of life in the areas undergoing demolition and construction.

DATES: This rule is effective without actual notice from July 7, 2025 through 11:59 p.m. on December 31, 2030. For the purposes of enforcement, actual notice will be used from July 1, 2025, until July 7, 2025. Comments and related material must be received by the Coast Guard on or before October 6, 2025.

ADDRESSES: Although this regulation is published as an interim rule without prior notice, public comment is nevertheless desirable to ensure that the regulation is both workable and reasonable while the rule remains in effect. If the Coast Guard determines on the basis of comments submitted that changes to the temporary interim rule are necessary, we will publish a temporary final rule, or other document, as appropriate. You may submit comments identified by docket number USCG-2025-0389 using the Federal Decision-Making Portal at https://www.regulations.gov. See the “Public Participation and Request for Comments” portion of the SUPPLEMENTARY INFORMATION section for further instructions on submitting comments. To view documents mentioned in this preamble as being available in the docket, go to https://www.regulations.gov, type USCG-2025-0389 in the search box and click “Search.” Next, in the Document Type column, select “Supporting & Related Material.

FOR FURTHER INFORMATION CONTACT: If you have questions about this rulemaking, call or email Mr. Craig Lapiejko, Waterways Management at Coast Guard First District, telephone 571-607-6314, email Craig.D.Lapiejko@uscg.mil.

SUPPLEMENTARY INFORMATION:

I. Table of Abbreviations

CFR Code of Federal Regulations

COTP Captain of the Port

DHS Department of Homeland Security

FR Federal Register

NHDOT New Hampshire Department of Transportation

NPRM Notice of Proposed Rulemaking

RNA Regulated Navigation Area

§ Section

TIR Temporary Interim Rule

U.S.C. United States Code

II. Background Information and Regulatory History

In 2023, the Coast Guard received notification from the New Hampshire Department of Transportation (NHDOT) concerning the replacement of the Neil R. Underwood Memorial Bridge that carries NH 1A Ocean Boulevard traffic over the Hampton River from the town of Seabrook, NH, to the town of Hampton, NH. The project includes the removal of the existing movable single leaf bascule span bridge and construction of a new fixed high-level steel girder bridge built on a new alignment approximately 60 feet west (shoreward) of the existing bridge.

Major construction activity began earlier this year with a temporary trestle being installed west of the new bridge location to provide access for the new bridge construction. Once the temporary trestle is installed, drilled shaft foundations will be installed for the new piers. Next, cofferdams will be installed to construct the footings for piers 1 and 6, while precast concrete forms will be installed to construct the footings for piers 2 through 5. Once the pier footings are constructed, the cofferdams will be removed, and the remaining pier construction will commence. Abutments will be constructed, followed by the superstructure. Once the new bridge is constructed, the temporary trestle will be removed and installed east of the old bridge to provide construction access for old bridge removal.

Although waterway traffic will be maintained within the existing federal navigational channel during construction and demolition activities, some equipment barges may block half the navigation channel. The restricted channel, along with heavy seasonal traffic and strong tidal currents, creates a hazardous condition.

Based on the hazardous condition created by this construction, the First Coast Guard District Commander has determined that establishment of a temporary RNA and safety zone through rulemaking is warranted to ensure the safety of life, property, and the environment within the regulated area.

The Coast Guard is issuing this temporary interim rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a NPRM with respect to this rule because doing so would be impracticable and contrary to the public interest since the hazardous conditions are being presented now. For the same justification, the Coast Guard also finds that good cause exists to issue the rule prior to providing notice and taking comments because it would delay promulgating a rule. Construction to replace the Neil R. Underwood Bridge is currently underway, creating a hazardous condition, therefore there is an urgent need for the RNA and safety zone to protect the safety of both the construction crew and the waterway users operating in the vicinity of the bridge construction. An interruption of the project to accommodate a full notice and comment period would also delay necessary operations, result in increased costs, and postponement to the completion date of the bridge project and subsequent reopening of the replacement to the Neil R. Underwood Bridge for normal operations.

Under 5 U.S.C. 553(d)(3), the Coast Guard finds that good cause exists for making this rule effective less than 30 days after publication in the Federal Register considering the hazardous conditions created by the replacement of the bridge. Delaying the effective date of this rule would be contrary to public interest because immediate action is needed to respond to the hazardous condition created by the replacement of the bridge.

Although this regulation is published as an interim rule without prior notice, public comment is nevertheless desirable to ensure that the regulation is both workable and reasonable. Accordingly, persons wishing to comment may do so by submitting written comments as set out under ADDRESSES in this preamble. Commenters should include their names and addresses, identify the docket number for the regulation, and give reasons for their comments. If the Coast Guard determines that changes to the temporary interim rule are necessary, we will publish a temporary final rule or other appropriate document.

III. Legal Authority and Need for Rule

The Coast Guard is issuing this rule under authority in 46 U.S.C. 70034. The Commander of the First Coast Guard District has determined that potential hazards associated with this bridge construction will continue to exist through December 31, 2030, creating a safety concern for anyone transiting the Hampton River in the vicinity of the Seabrook-Hampton Bridge removal and replacement bridge construction project. This rule is needed to protect personnel, vessels, and the marine environment in the navigable waters within the regulated area while bridge replacement operations are taking place.

IV. Discussion of the Rule

This rule establishes both an RNA and, when enforced, a safety zone from July 1, 2025, through 11:59 p.m. on December 31, 2030.

First, the Coast Guard is creating a RNA, as shown in figure 1, to include all navigable waters of the Hampton River, mile 0.0, at the inlet to Hampton Harbor, Hampton, NH, surface to bottom, encompassed by a line connecting the following approximate positions, 42°53′41.59″ N 070°48′29.064″ W (Hampton Harbor North Jetty Daybeacon “8” LLNR 8945); thence along the jetty to 42°53′48.1″ N 070°48′38.4″ W; thence along the shore line to 42°53′50.9″ N 070°48′58.2″ W (center Hampton Bridge north side approach); thence along the shore line to 42°53′56.52″ N 070°49′4.77″ W (Hampton State Pier); thence to 42°53′55.73″ N 070°49′12.72″ W; thence to 42°53′41.78″ N 070°49′14.11″ W; thence to 42°53′41.67″ N 070°49′8.63″ W” (Harborside Dunes); thence along the shore to 42°53′41.09″ N 070°49′0.87″ W (center Hampton Bridge south side approach); thence along the shore to 42°53′33.077″ N 070°48′38.724″ W (Hampton Harbor South Daybeacon “H” LLNR 8955); thence to the point of origin, expressed in Degrees (°) Minutes (′) Seconds (″) (DMS) based on North American Datum 1983 (NAD 83).

Figure 1 Chartlet Showing the Boundaries of the RNA

The RNA will establish the following operating restrictions on vessels:

(i) Entry and movement within the RNA is subject to a “Slow-No Wake” speed limit. All vessels may not produce a wake and may not attain speeds greater than five (5) knots unless a higher minimum speed is necessary to maintain bare steerageway.

(ii) Any vessel transiting through the RNA must make a direct passage. No vessel may stop, fish, moor, anchor, or loiter within the RNA at any time.

(iii) Vessels may not pass (overtake) another vessel within the RNA.

(iv) Only one vessel is permitted to pass through the center span navigational channel of the bridge(s) at any given time.

(v) Except when transiting through the center span navigation channel, no vessel or craft may operate within 20 feet of the bridge(s).

(vi) The operator of any vessel transiting in the RNA must comply with all lawful directions given to them by the COTP or the COTP's on-scene representative.

In addition to the prohibitions stated above the Coast Guard is establishing a temporary traffic pattern within the RNA to manage vessel traffic. The traffic pattern, as shown below in figure 2, is positioned around the shallow waters of Hampton Harbor and will be marked with temporary aids to navigation. The western and southern sides of the shallow area will support two-way traffic. One-way traffic will flow northbound between the eastern side of the shallow waters and the Neil R. Underwood Bridge/Seabrook-Hampton Harbor Bridge. The northern side of the shallow area will accommodate one-way traffic moving west.

Figure 2 Chartlet Showing Traffic Pattern Within the RNA

Second, this rule establishes a safety zone from July 1, 2025, through 11:59 p.m. on December 31, 2030. While the safety zone will be effective through this period, it will only be enforced during active construction operations, when work being conducted by barges and cranes placed in the narrow center span navigable channel dictate enforcement, or other instances which may create a hazard to navigation.

The safety zone will cover all navigable waters within a 50-yard radius of the center point of the Neil R. Underwood Seabrook-Hampton Harbor Bridge, Hampton River, mile 0.0, at the inlet to Hampton Harbor, Hampton, NH, surface to bottom, in approximate positions, 42°53′46.2″ N 70°48′59.6″ W, expressed in Degrees (°) Minutes (′) Seconds (″) (DMS) based on North American Datum 1983 (NAD 83). When subject to enforcement, no unauthorized vessel or person will be permitted to enter the safety zone without obtaining permission from the COTP or a designated representative.

The Coast Guard will make notice of the safety zone via the Local Notice to Mariners and issue a Broadcast Notice to Mariners via marine channel 16 (VHF-FM) as soon as practicable in response to an emergency or hazardous condition.

Persons or vessels seeking to enter the safety zone must request authorization from the COTP or the COTP's on-scene designated representative on VHF-16 or via phone at 833-449-2407 (Sector Northern New England Command Center). Vessels must comply with directions given to them by the COTP or the COTP's on-scene designated representative.

The Coast Guard is publishing this rule to be effective through December 31, 2030, to encompass any construction delays due to weather or other unforeseen circumstances. If the project is completed before December 31, 2030, enforcement of the RNA and safety zone will be suspended, and notice given via Local Notice to Mariners. The First Coast Guard District Local Notice to Mariners can be found at: http://www.navcen.uscg.gov.

Additional information about the replacement of the Neil R. Underwood Bridge can be found at https://www.dot.nh.gov/projects-plans-and-programs/project-center/seabrook-hampton-15904.

The COTP maintains a telephone line that is staffed 24 hours a day, seven days a week. The public can obtain information concerning enforcement of the regulated navigation area and safety zone by contacting the Coast Guard Sector Northern New England Command Center at (833) 449-2407.

V. Regulatory Analyses

We developed this rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This rule has not been designated a “significant regulatory action,” under Executive Order 12866. Accordingly, this rule has not been reviewed by the Office of Management and Budget (OMB).

This regulatory action determination is based on the size and location of the regulated area. The RNA covers only a small portion of the navigable waterway which includes the Federal navigation channel and will not prohibit vessel traffic. Rather, this RNA will primarily establish a speed and wake restriction and a traffic pattern along the waters surrounding the Neil R. Underwood Seabrook-Hampton Harbor Bridge. There may be times that the Coast Guard will prohibit vessel traffic through the safety zone, but such closures are expected to take place on very limited occasions. Moreover, even when the Coast Guard generally prohibits vessel traffic through the safety zone, vessels may still obtain permission to transit through the safety zone. Lastly, the Coast Guard will provide the public with advanced notification of waterway closures so that mariners may plan accordingly and adjust their route. Such notifications will be made through various means, including, but not limited to, Local Notice to Mariners and Broadcast Notice to Mariners via marine channel 16 (VHF-FM). For all these reasons, the Coast Guard has determined that this proposed rulemaking would not be a significant regulatory action.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the regulated area may be small entities, for the reasons stated in section V.A above, this proposed rule will not have a significant economic impact on any vessel owner or operator.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this temporary rule does not have Tribal implications under Executive Order 13175 (Consultation and Coordination with Indian Tribal Governments) because it would not have a substantial direct effect on one or more Indian tribes, on the relationship between the Federal Government and Indian tribes, or on the distribution of power and responsibilities between the Federal Government and Indian tribes. If you believe this rule has implications for federalism or Indian tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the potential effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves restricting vessel movement within a regulated navigation area and safety zone. It is categorically excluded from further review under paragraph L60(a) of Appendix A, Table 1 of DHS Instruction Manual 023-01-001-01, Rev. 1. A Record of Environmental Consideration supporting this determination is available in the docket. For instructions on locating the docket, see the ADDRESSES section of this preamble. We seek any comments or information that may lead to the discovery of a significant environmental impact from this rule.

VI. Public Participation and Request for Comments

Although we are promulgating this as a temporary interim rule for lack of time to take comments prior to issuing the rule, we view public participation as essential to effective rulemaking and will consider all comments and material received during the comment period. If you submit a comment, please include the docket number for this rulemaking, indicate the specific section of this document to which each comment applies, and provide a reason for each suggestion or recommendation.

Submitting comments. We encourage you to submit comments through the Federal Decision-Making Portal at https://www.regulations.gov. To do so, go to https://www.regulations.gov, type USCG-2025-0056 in the search box and click “Search.” Next, look for this document in the Search Results column, and click on it. Then click on the Comment option. If you cannot submit your material by using https://www.regulations.gov, call or email the person in the FOR FURTHER INFORMATION CONTACT section of this rule for alternate instructions.

Viewing material in docket. To view documents mentioned in this rule as being available in the docket, find the docket as described in the previous paragraph, and then select “Supporting & Related Material” in the Document Type column. Public comments will also be placed in our online docket and can be viewed by following instructions on the https://www.regulations.gov Frequently Asked Questions web page. Also, if you click on the Dockets tab and then the rule, you should see a “Subscribe” option for email alerts. The option will notify you when comments are posted, or a final rule is published.

We review all comments received, but we will only post comments that address the topic of the rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.4.

2. Add § 165.T01-0389 to read as follows:

§ 165.T01-0389 Regulated Navigation Area and Safety Zone; Hampton River, Hampton, NH.

(a) Location. The following area is a regulated navigation area (RNA):

(1) “RNA”: all navigable waters of the Hampton River, mile 0.0, at the inlet to Hampton Harbor, Hampton, NH, surface to bottom, encompassed by a line connecting the following approximate positions, 42°53′41.59″ N 070°48′29.064″ W (Hampton Harbor North Jetty Daybeacon “8” LLNR 8945); thence along the jetty to 42°53′48.1″ N 070°48′38.4″ W; thence along the shore line to 42°53′50.9″ N 070°48′58.2″ W (center Hampton Bridge north side approach); thence along the shore line to 42°53′56.52″ N 070°49′4.77″ W (Hampton State Pier); thence to 42°53′55.73″ N 070°49′12.72″ W; thence to 42°53′41.78″ N 070°49′14.11″ W; thence to 42°53′41.67″ N 070°49′8.63″ W” (Harborside Dunes); thence along the shore to 42°53′41.09″ N 070°49′0.87″ W (center Hampton Bridge south side approach); thence along the shore to 42°53′33.077″ N 070°48′38.724″ W (Hampton Harbor South Daybeacon “H” LLNR 8955); thence to the point of origin, expressed in Degrees (°) Minutes (′) Seconds (″) (DMS) based on North American Datum 1983 (NAD 83).

(b) Location. The following area is a safety zone:

(1) “Safety Zone”: all navigable waters within a 50-yard radius of the center point of the Neil R. Underwood Brid Seabrook-Hampton Harbor Bridge, Hampton River, mile 0.0, at the inlet to Hampton Harbor, Hampton, NH, surface to bottom, in approximate positions, 42°53′46.2″ N 70°48′59.6″ W, expressed in Degrees (°) Minutes (′) Seconds (″) (DMS) based on North American Datum 1983 (NAD 83).

(c) Definitions. As used in this section, designated representative means a Coast Guard Patrol Commander, including a Coast Guard coxswain, petty officer, or other officer operating a Coast Guard vessel and a Federal, State, and local officer designated by or assisting the First Coast Guard District Commander in the enforcement of the safety zones. Local officer means any officer, agent, or employee of a unit of local government authorized by law or by a local government agency to engage in or supervise the prevention, detection, investigation, or prosecution of any violation of criminal law.

(d) RNA Regulations. In addition to the general RNA regulations in § 165.13, the following regulations apply to the RNA described in paragraph (a) of this section.

(1) Nothing in this regulation relieves any vessel, owner, operator, charterer, master, or person directing the movement of a vessel, from the consequences of any neglect to comply with this part or any other applicable law or regulation (i.e., the International Regulations for Prevention of Collisions at Sea, 1972 (72 COLREGS) or 33 CFR part 84—Subchapter E, Inland Navigation Rules) or of the neglect of any precaution which may be required by the ordinary practice of seamen, or by the special circumstances of the case.

(2) Entry and movement within the RNA is subject to a “Slow-No Wake” speed limit. All vessels may not produce a wake and may not attain speeds greater than five (5) knots unless a higher minimum speed is necessary to maintain bare steerageway.

(3) Any vessel transiting through the RNA must make a direct passage. No vessel may stop, fish, moor, anchor, or loiter within the RNA at any time.

(4) Vessels may not pass (overtake) another vessel within the RNA.

(5) Only one vessel is permitted to pass through the center span navigational channel of the bridge(s) at any given time.

(6) The Coast Guard is establishing a temporary traffic pattern within the RNA to manage vessel traffic. The traffic pattern, as shown below in figure 1, is positioned around the shallow waters of Hampton Harbor and will be marked with temporary aids to navigation. The western and southern sides of the shallow area will support two-way traffic. One-way traffic will flow northbound between the eastern side of the shallow waters and the Neil R. Underwood Bridge/Seabrook-Hampton Harbor Bridge. The northern side of the shallow area will accommodate one-way traffic moving west.

Figure 1 Chartlet Showing Traffic Pattern Within the RNA

(7) Except for transiting through the center span, no vessel or craft may operate within 20 feet of the bridge(s).

(8) The operator of any vessel transiting in the RNA must comply with all lawful directions given to them by the COTP or the COTP's on-scene representative.

(d) Enforcement period. The RNA will be enforced from 12:01 a.m. July 1, 2025, through 11:59 p.m. on December 31, 2030.

(e) Safety Zone Regulations. In addition to the general safety zone regulations in § 165.23, the following regulations apply to the “Safety Zone” described in paragraph (b) of this section.

(1) During each enforcement period, only vessel authorized by COTP may enter or remain in this safety zone.

(2) Persons or vessels seeking to enter the safety zone must request authorization from the COTP or the COTP's on-scene designated representative on VHF-16 or via phone at 833-449-2407 (Sector Northern New England Command Center). Vessels must comply with directions given to them by the COTP or the COTP's on-scene designated representative.

(f) Effective and Enforcement periods. This safety zone will be effective from 12:01 a.m. July 1, 2025, through 11:59 p.m. on Decmember 31, 2030 but will only be enforced during active construction within the main span navigational channel or other instances which may cause a hazard to navigation as determined by the COTP. The COTP will make notification of the exact dates and times in advance of each closure period of the safety zone to the local maritime community through the Local Notice to Mariners and will issue a Broadcast Notice to Mariners via marine channel 16 (VHF-FM) as soon as practicable in response to an emergency.

(g) Early Completion. If the project is completed before December 31, 2030, enforcement of the RNA and safety zone will be suspended, and notice given via Local Notice to Mariners. The First Coast Guard District Local Notice to Mariners can be found at: http://www.navcen.uscg.gov.

M.E. Platt,
Rear Admiral, U.S. Coast Guard, Commander, First Coast Guard District.

[FR Doc. 2025-12540 Filed 7-3-25; 8:45 am]

BILLING CODE 9110-04-P